DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of February, 2001.

In order for an affirmative determination to be made and a certification of eligibility to apply for worker adjustment assistance to be issued, each of the group eligibility requirements of Section 222 of the Act must be met.

(1) That a significant number or proportion of the workers in the workers' firm, or an appropriate subdivision thereof, have become totally or partially separated.

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,417; Wing Industries, Div. of Atrium Companies, Inc., Mt. Pleasant, TX

TA-W-38,437; SNE Enterprises, AWC-Crestline Div., Commerce, TX

TA-W-38,336; Dunham Bush, Inc., Harrisonburg, PA

TA-W-38,133; UFE, Inc., El Paso, TX

TA-W-38,521; Burnt River Forest Products, Inc., Unity, OR

In the following cases, the investigation revealed that the criteria for eligibility have not been met for the reasons specified.

The workers firm does not produce an article as required for certification under Section 222 of the Trade Act of 1974.

TA-W-38,432; Singer Sewing Co., Industrial Div., Murfreesboro, TN

TA-W-38,513; Comdata, Inc., Birmingham, AL

Increased imports did not contribute importantly to worker separations at the firm.

TA-W-38,107; Timex Corp., Little Rock, AR

TA-W-38,391; Foxboro Co., Foxboro, MA

TA-W-38,408; Williams Energy Services, Bloomfield, MN

TA-W-38,496; Dynamic Metal Forming, Inc., Koppel, PA

TA-W-38,337; Norton Co., Coated Abrasives Div., Watervliet, NY

TA-W-38,358; Tower Automotive Kalamazoo, Kalamazoo, MI

TA-W-38,412; Columbia Falls Aluminum Co., Columbia Falls, MT

TA-W-38,321; International Paper Co., Lock Haven, PA

TA-W-38,594; Regional Recycling LLC, Attalla, AL

TA-W-38,445; Burlington Resources, Inc., Farmington, NM

TA-W-38,585; Portola Packaging, New Castle, PA

TA-W-38,483; Saputo Cheese USA, Inc., Thorp, WI

The investigation revealed that criteria (2) has not been met. Sales or production did not decline during the relevant period as required for certification.

TA-W-38,439; Eastern Fine Paper, Inc., Brewer, ME

Affirmative Determinations for Worker Adjustment Assistance

The following certifications have been issued; the date following the company name and location of each determination references the impact date for all workers of such determination.

TA-W-38,486; Tyco Electronics, Irvine, CA: December 11, 1999.

TA-W-38,300; ABB/Westinghouse, Hematite Plant, Festus, MO: October 17, 1999.

TA-W-37,970; Devro-Teepak, Inc., Danville, IL: July 31, 1999.

TA-W-38,561; Oshkosh B' Gosh, Inc., Byrdstown Div., Byrdstown, TN: January 8, 2000.

TA-W-38,590; Bianco Sportswear, Inc., Copiague, NY: January 3, 2000.

TA-W-38,438; Bend N' Stretch, Cutting Dept., Hialeah, FL: November 30, 1999.

TA-W-38,447; Pinebluff Manufacturing Co., Pinebluff, NC: December 4, 1999.

TA-W-38,288; Middleby Marshall, Inc., Southbend Div., Including Leased Workers of Express Temporary Services, Fuquay Varina, NC: October 23, 1999.

TA-W-38,402; Leroi International, Inc., DBA Compair, Sidney, OH: November 15, 1999.

TA-W-38,592; Exide Technologies, Automotive Battery Div., A/K/A GNB Batteries, Inc., A/K/A Exide Corp., Farmers Branch, TX: January 10, 2000.

TA-W-38,379; Trumark Industries, Spokane, WA: November 8, 1999.

TA-W-38,283; Fernbrook #2, Palmerton, PA: October 23, 1999.

TA-W-38,277; Camp Healthcare, Jackson, MI: October 23, 1999.

TA-W-38,324; Remacor, West Pittsburg, PA: October 23, 1999.

TA-W-38,460; Crompton and Knowles Color, Inc., Nutley, NJ: December 5, 1999

TA-W-38,526; Victor Equipment Co., Abilene, TX: December 21, 1999

TA-W-38,330; Central Industries of Indiana, Inc., Greenwood Arkansas Div., Greenwood, AR: October 25, 1999.

TA-W-38,407; Tower Automotive Products Co., Inc., Milwaukee, WI: November 22, 1999.

TA-W-38,512; VF Imagewear (West), Inc., Clarksville, TX: December 19, 1999.

TA-W-38,511; VF Imagewear (West), Inc., Antlers, OK: December 19, 1999.

TA-W-38,315; DeBon Leather Goods, Hackensack, NJ: October 20, 1999.

TA-W-38,567; Pirelli Tire North America, Hanford, CA: January 9, 2000.

TA-W-38,459; Pennsylvania Steel Div., Pennsylvania Foundry Group, Subsidiary of Atchinson Casting Corp., Hamburg, PA: December 8, 1999.

TA-W-38,578; Berne Apparel Co., Inc., Hardinsburg, KY: January 5, 2000.

TA-W-38,270; General Electric Co., GEA Bloomington, Inc., Bloomington, IN: October 10, 1999.

TA-W-38,370; A.O. Smith Electrical Products Co., Altavista, VA: November 16, 1999.

TA-W-38,554; Lego Systems, Inc., Molding Dept., Enfield, CT: January 4, 2000.

TA-W-38,430; Unilever-Bestfoods, Lipton, Dallas, TX: December 5, 1999.

TA-W-38,261; McNeil and NRM, Inc., Akron, OH: October 5, 1999.

Also, pursuant to Title V of the North American Free Trade Agreement Implementation Act (Pub. L. 103-182) concerning transitional adjustment assistance hereinafter called (NAFTA-TAA) and in accordance with section 250(a), subchapter D, chapter 2, Title II, of the Trade Act as amended, the Department of Labor presents summaries of determinations regarding eligibility to apply for NAFTA-TAA issued during the month of February, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04334; Cherokee Finishing Co., Spartan International, Gaffney, SC

NAFTA-TAA-04409; Burnt River Forest Products, Inc., Unity, OR

NAFTA-TAA-04380; Wing Industries, Div. of Atrium Companies, Inc., Mt Pleasant, TX

NAFTA-TAA-04459; Pirelli Tire North America, Hanford, CA

NAFTA-TAA-04241; Tower Automotive Kalamazoo Business Unit, Kalamazoo, MI

NAFTA-TAA-04384; Saputo Cheese USA, Inc., Thorp, WI

NAFTA-TAA-04359; G&P Cutting Contractors, Inc., d/b/a G&P Logging Contractors, Inc., Parkdale, OR

NAFTA-TAA-04246; National Mills, Inc., Pittsburg, KS

NAFTA-TAA-04174; UFE, Inc., El Paso, TX

NAFTA-TAA-04237; Middleby Marshall, Inc., Southbend Div., Fuquay Varina, NC

NAFTA-TAA-04287; ABB/Westinghouse, Hematite Plant, Festus, MO

NAFTA-TAA-04446; Borg Wagner Air Fluid Systems, Inc., Blytheville Plant, Blytheville, AR

NAFTA-TAA-04355; SNE Enterprises, AWC-Crestline Div., Commerce, TX

NAFTA-TAA-04371; Columbia Falls Aluminum Co., Columbia Falls, MT

NAFTA-TAA-04482; Master Patern, Inc., Norton Shores, MI

NAFTA-TAA-04367; Carolina Imprints, Greenville, NC

The investigation revealed that the criteria for eligibility have not been met for the reasons specified.

The investigation revealed that workers of the subject firm did not produce an article within the meaning of Section 250(a) of the Trade Act, as amended.

NAFTA-TAA-04426; Southern Oregon Log Scaling and Grading Bureau, Roseburg, OR

The investigation revealed that criteria (2) has not been met. Sales or production, or both, of such firm or subdivision did not decrease during the relevant period.

NAFTA-TAA-04470; Delbar Products, Inc., Perkasie, PA

NAFTA-TAA-04365; Eastern Fine Paper, Inc., Brewer, ME

Affirmative Determinations NAFTA-TAA

NAFTA-TAA-04445; Burlington Industries, Inc., Burlington House Floor Accents, Monticello, AR: January 3, 2000.

NAFTA-TAA-04361; Money's Foods U.S., Inc., Money's Mushrooms Ltd, Blandon, PA: December 1, 1999.

NAFTA-TAA-04338 & A, B; Wiscassett Mills Co., Kannapolis, NC, Concord, NC and Albemarle, NC: November 21, 1999.

NAFTA-TAA-04443; Berne Apparel Co., Inc., Hardinsburg, KY: January 5, 2000.

NAFTA-TAA-04472; Portola Packaging, New Castle, PA: January 10, 2000.

NAFTA-TAA-04417; VF Imagewear (West), Inc., Antlers, OK: December 19, 1999.

NAFTA-TAA-04433; VF Imagewear (West), Inc., Clarksville, TX: December 19, 1999.

NAFTA-TAA-04456; Exide Technologies/GNB Batteries, Inc., Leavenworth, KS: January 16, 2000.

NAFTA-TAA-04442; Oshkosh B'Gosh, Inc., Byrdstown Div., Byrdstown, TN: January 8, 2000.

NAFTA-TAA-04392; Unilever-Bestfoods, Lipton, Dallas, TX: December 5, 1999.

NAFTA-TAA-04230; General Electric Co., GEA Bloomington, Inc., Bloomington, IN: October 6, 1999.

NAFTA-TAA-04286; Poly One Corp. (Formerly The Geon Co), Denver Compound Plant, Denver, CO: November 8, 1999.

NAFTA-TAA-04339; Tower Automotive Products Co., Inc., Milwaukee, WI: November 22, 1999.

NAFTA-TAA-04312; Trumark Industries, Spokane, WA: November 8, 1999.

NAFTA-TAA-04310; Commonwealth Sprague Capacitor, Inc., Components Div., Assembly and Finishing Departments, North Adams, MA: November 9, 1999.

NAFTA-TAA-04483; Vilter Manufacturing Corp., Cudahy, WI: January 10, 2000.

NAFTA-TAA-04419; TI Automotive Group, New Haven Div., New Haven, MI: January 3, 2000.

NAFTA-TAA-04388; Winpak Films, Inc., Converting Department, Senoia, GA: December 14, 1999.

NAFTA-TAA-04309; Kojo Worldwide Corp., Huntington Beach, CA: November 1, 1999.

NAFTA-TAA-04350; State Coat Front Co., Inc., Boston, MA: November 27, 1999.

NAFTA-TAA-04499; Rexam Medial Packaging, Mt. Holly, NJ: December 16, 1999.

NAFTA-TAA-04458; Leach International, Buena Park, CA: January 12, 2000.

NAFTA-TAA-04515; Talon Automotive Group, Production Stampong Div., Oxford, MI: January 12, 2000.

NAFTA-TAA-04545; Accuride Corp., Henderson, KY: February 7, 2000.

NAFTA-TAA-04421; HYD-Mech Group, Ltd, HY-Mech Pueblo, Inc., Pueblo, CO: January 3, 2000.

I hereby certify that the aforementioned determinations were issued during the month of February, 2001. Copies of these determinations are available for inspection in Room C-5311, U.S. Department of Labor, 200 Constitution Avenue, NW., Washington, DC 20210 during normal business hours or will be mailed to persons who write to the above address.

Dated: February 21, 2001.
Edward A. Tomchick,
Director, Division of Trade Adjustment Assistance.

[FR Doc. 01-5091 Filed 3-1-01; 8:45 am]

BILLING CODE 4510-30-M